DEPARTMENT OF COMMERCE

International Trade Administration

[A-552-802]

Certain Frozen Warmwater Shrimp From the Socialist Republic of Vietnam: Extension of Time Limit for the Preliminary Results of the New Shipper Review

AGENCY: Import Administration, International Trade Administration, Department of Commerce.

DATES: Effective Date: November 29, 2011.

SUMMARY: The Department of Commerce (the “Department”) has decided to extend the time limit for the preliminary results of the new shipper review (“NSR”) of the antidumping duty order on certain frozen warmwater shrimp (“shrimp”) from the Socialist Republic of Vietnam (“Vietnam”) to January 9, 2012. The period of review (“POR”) for this NSR is February 1, 2010, through January 31, 2011.

FOR FURTHER INFORMATION CONTACT: Susan Pulongbarit or Seth Isenberg, AD/CVD Operations, Office 9, Import Administration, International Trade Administration, U.S. Department of Commerce, 14th Street and Constitution Avenue NW., Washington, DC 20230; telephone: (202) 482-4031 and (202) 482-0588, respectively.

SUPPLEMENTARY INFORMATION:

Background

The antidumping duty order on shrimp from Vietnam was published in the Federal Register on February 1, 2005.¹ On February 28, 2011, pursuant to section 751(a)(2)(B)(i) of the Tariff Act of 1930, as amended (the “Act”), and 19 CFR 351.214(c), the Department received a NSR request from Thong Thuan Company Limited and its subsidiary company, Thong Thuan Seafood Company Limited (collectively, “Thong Thuan”). Thong Thuan certified that it is a producer and exporter of the subject merchandise upon which the request was based.

¹ See Notice of Amended Final Determination of Sales at Less Than Fair Value and Antidumping Duty Order: Certain Frozen Warmwater Shrimp from the Socialist Republic of Vietnam, 70 FR 5152 (February 1, 2005).

The notice initiating the NSR was published in the Federal Register on March 23, 2011.² The Department extended the time limit for the preliminary results by 60 days on September 7, 2011.³ The Department extended the time limit for the preliminary results by an additional 30 days on November 1, 2011.⁴ The preliminary results are currently due no later than December 9, 2011.

² See Certain Frozen Warmwater Shrimp from the Socialist Republic of Vietnam: Initiation of Antidumping Duty New Shipper Review, 76 FR 16384 (March 23, 2011).

³ See Certain Frozen Warmwater Shrimp From the Socialist Republic of Vietnam: Extension of Time Limit for the Preliminary Results of the New Shipper Review, 76 FR 55350 (September 7, 2011).

⁴ See Certain Frozen Warmwater Shrimp From the Socialist Republic of Vietnam: Extension of Time Limit for the Preliminary Results of the New Shipper Review, 76 FR 67418 (November 1, 2011).

Statutory Time Limits

Section 751(a)(2)(B)(iv) of the Act, provides that the Department will issue the preliminary results of a new shipper review of an antidumping duty order within 180 days after the day on which the review was initiated. See also 19 CFR 351.214 (i)(1). The Act further provides that the Department may extend that 180-day period to 300 days if it determines that the case is extraordinarily complicated. See also 19 CFR 351.214 (i)(2).

Extension of Time Limit of Preliminary Results

The Department determines that this new shipper review involves extraordinarily complicated methodological issues, including Thong Thuan's multiple production stages for subject merchandise and the need to evaluate the bona fide nature of Thong Thuan's sales. The Department finds that these extraordinarily complicated issues require additional time to evaluate. Therefore, in accordance with section 751(a)(2)(B)(iv) of the Act and 19 CFR 351.214(i)(2), the Department is extending the time limit for the preliminary results by an additional 30 days. The preliminary results are now due no later than January 8, 2012. As that day falls on a Sunday, the final results are due no later than January 9, 2012.⁵ The final results continue to be due 90 days after the publication of the preliminary results.

⁵ See Notice of Clarification: Application of “Next Business Day” Rule for Administrative Determination Deadlines Pursuant of the Tariff Act of 1930, As Amended, 70 FR 24533 (May 10, 2005).

We are issuing and publishing this notice in accordance with sections 751(a)(2)(B)(iv) and 777(i) of the Act.

Dated: November 21, 2011.
Christian Marsh,
Deputy Assistant Secretary for Antidumping and Countervailing Duty Operations.

[FR Doc. 2011-30747 Filed 11-28-11; 8:45 am]

BILLING CODE 3510-DS-P